DEPARTMENT OF ENERGY

Federal Energy Regulatory Commission

Combined Notice of Filings 1

Take notice that the Commission received the following exempt wholesale generator filings:

Docket Numbers: EG21-110-000.

Applicants: Swoose LLC.

Description: Notice of Self-Certification of Exempt Wholesale Generator Status of Swoose LLC.

Filed Date: 3/18/21.

Accession Number: 20210318-5279.

Comments Due: 5 p.m. ET 4/8/21.

Docket Numbers: EG21-111-000.

Applicants: Flower Valley LLC.

Description: Flower Valley LLC Notice of Self-Certification of Exempt Wholesale Generator Status.

Filed Date: 3/18/21.

Accession Number: 20210318-5287.

Comments Due: 5 p.m. ET 4/8/21.

Take notice that the Commission received the following electric rate filings:

Docket Numbers: ER19-2547-002.

Applicants: Pheasant Run Wind, LLC.

Description: Compliance filing: Compliance filing for Docket ER19-2547 to be effective 10/1/2019.

Filed Date: 3/19/21.

Accession Number: 20210319-5076.

Comments Due: 5 p.m. ET 4/9/21.

Docket Numbers: ER20-1936-003.

Applicants: Walnut Ridge Wind, LLC.

Description: Compliance filing: Reactive Power Compliance Filing to be effective 6/1/2020.

Filed Date: 3/18/21.

Accession Number: 20210318-5184.

Comments Due: 5 p.m. ET 4/8/21.

Docket Numbers: ER20-1970-001.

Applicants: Diamond Spring, LLC.

Description: Supplement to January 28, 2021 Notice of Change in Status of Diamond Spring, LLC.

Filed Date: 3/19/21.

Accession Number: 20210319-5155.

Comments Due: 5 p.m. ET 4/9/21.

Docket Numbers: ER20-2125-000.

Applicants: WGP Redwood Holdings, LLC.

Description: Response to the January 15, 2021 Order of WGP Redwood Holdings, LLC tariff filing.

Filed Date: 3/18/21.

Accession Number: 20210318-5183.

Comments Due: 5 p.m. ET 4/8/21.

Docket Numbers: ER21-682-001.

Applicants: Basin Electric Power Cooperative.

Description: Tariff Amendment: Basin Electric Response to February 16, 2021 Deficiency Letter to be effective 1/1/2021.

Filed Date: 3/18/21.

Accession Number: 20210318-5203.

Comments Due: 5 p.m. ET 4/8/21.

Docket Numbers: ER21-768-001.

Applicants: Basin Electric Power Cooperative.

Description: Tariff Amendment: Basin Electric Response to February 16, 2021 Deficiency Letter to be effective 1/1/2021.

Filed Date: 3/18/21.

Accession Number: 20210318-5187.

Comments Due: 5 p.m. ET 4/8/21.

Docket Numbers: ER21-1473-000.

Applicants: The Empire District Electric Company.

Description: § 205(d) Rate Filing: Amendment to Transmission Formula Rate to be effective 5/14/2021.

Filed Date: 3/18/21.

Accession Number: 20210318-5176.

Comments Due: 5 p.m. ET 4/8/21.

Docket Numbers: ER21-1474-000.

Applicants: KEI MASS ENERGY STORAGE I, LLC.

Description: Baseline eTariff Filing: Market-Based Rate Application and Request for Expedited Action to be effective 3/19/2021.

Filed Date: 3/18/21.

Accession Number: 20210318-5194.

Comments Due: 5 p.m. ET 4/8/21.

Docket Numbers: ER21-1475-000.

Applicants: Orange and Rockland Utilities, Inc.

Description: § 205(d) Rate Filing: Attachment J—Municipal Underground Surcharge Revision to be effective 4/1/2021.

Filed Date: 3/19/21.

Accession Number: 20210319-5032.

Comments Due: 5 p.m. ET 4/9/21.

Docket Numbers: ER21-1476-000.

Applicants: Sierra Pacific Power Company.

Description: § 205(d) Rate Filing: Service Agreement No. 21-00011; SPPC Liberty to be effective 5/19/2021.

Filed Date: 3/19/21.

Accession Number: 20210319-5088.

Comments Due: 5 p.m. ET 4/9/21.

Docket Numbers: ER21-1477-000.

Applicants: Southern California Edison Company.

Description: § 205(d) Rate Filing: Letter Agreement Placerita Energy Storage Project SA No. 1138 to be effective 3/20/2021.

Filed Date: 3/19/21.

Accession Number: 20210319-5089.

Comments Due: 5 p.m. ET 4/9/21.

Docket Numbers: ER21-1478-000.

Applicants: PJM Interconnection, L.L.C.

Description: § 205(d) Rate Filing: Amendment to ISA/CSA Nos. 4810 & 4811; Queue No. AA2-103 to be effective 9/27/2017.

Filed Date: 3/19/21.

Accession Number: 20210319-5102.

Comments Due: 5 p.m. ET 4/9/21.

Docket Numbers: ER21-1479-000.

Applicants: Southern California Edison Company.

Description: Tariff Cancellation: Notice of Termination of Service Agreement No. 258 Terra-Gen, Sanborn Hybrid 3 to be effective 3/12/2021.

Filed Date: 3/19/21.

Accession Number: 20210319-5105.

Comments Due: 5 p.m. ET 4/9/21.

Docket Numbers: ER21-1480-000.

Applicants: Tri-State Generation and Transmission Association, Inc.

Description: Tariff Cancellation: Notice of Cancellation of Rate Schedule No. 232 to be effective 6/30/2021.

Filed Date: 3/19/21.

Accession Number: 20210319-5110.

Comments Due: 5 p.m. ET 4/9/21.

Docket Numbers: ER21-1481-000.

Applicants: Idaho Power Company.

Description: § 205(d) Rate Filing: CF Conversion to Bridge—Part II, Section 15 and 22 to be effective 5/28/2021.

Filed Date: 3/19/21.

Accession Number: 20210319-5116.

Comments Due: 5 p.m. ET 4/9/21.

Docket Numbers: ER21-1482-000.

Applicants: Riverstart Solar Park LLC.

Description: § 205(d) Rate Filing: Revised Market-Based Rate Tariff to be effective 3/20/2021.

Filed Date: 3/19/21.

Accession Number: 20210319-5122.

Comments Due: 5 p.m. ET 4/9/21.

Docket Numbers: ER21-1483-000.

Applicants: Tri-State Generation and Transmission Association, Inc.

Description: § 205(d) Rate Filing: Rate Schedule FERC No. 324 between Tri-State and SLVREC to be effective 7/1/2021.

Filed Date: 3/19/21.

Accession Number: 20210319-5134.

Comments Due: 5 p.m. ET 4/9/21.

Docket Numbers: ER21-1484-000.

Applicants: Duke Energy Carolinas, LLC, Duke Energy Progress, LLC.

Description: § 205(d) Rate Filing: Revisions to Joint OATT Formula Rates—Recovery of DEP 2019 Storm Costs to be effective 5/19/2021.

Filed Date: 3/19/21.

Accession Number: 20210319-5149.

Comments Due: 5 p.m. ET 4/9/21.

Docket Numbers: ER21-1485-000.

Applicants: California Independent System Operator Corporation.

Description: § 205(d) Rate Filing: 2021-03-19 ESDER 4 to be effective 5/19/2021.

Filed Date: 3/19/21.

Accession Number: 20210319-5156.

Comments Due: 5 p.m. ET 4/9/21.

Docket Numbers: ER21-1486-000.

Applicants: Duke Energy Carolinas, LLC.

Description: § 205(d) Rate Filing: Wholesale Contract Revisions to Rate Schedule No. 326 to be effective 1/1/2021.

Filed Date: 3/19/21.

Accession Number: 20210319-5181.

Comments Due: 5 p.m. ET 4/9/21.

Docket Numbers: ER21-1487-000.

Applicants: California Independent System Operator Corporation.

Description: § 205(d) Rate Filing: 2021-03-19 ESDER Phase 4 to be effective 5/19/2021.

Filed Date: 3/19/21.

Accession Number: 20210319-5190.

Comments Due: 5 p.m. ET 4/9/21.

Docket Numbers: ER21-1488-000.

Applicants: Luna Storage, LLC.

Description: Baseline eTariff Filing: Luna Storage, LLC MBR Tariff to be effective 3/20/2021.

Filed Date: 3/19/21.

Accession Number: 20210319-5211.

Comments Due: 5 p.m. ET 4/9/21.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 19, 2021.
Kimberly D. Bose,
Secretary.

[FR Doc. 2021-06253 Filed 3-25-21; 8:45 am]

BILLING CODE 6717-01-P